DEPARTMENT OF HEALTH AND HUMAN SERVICES

Administration for Children and Families

Proposed Information Collection Activity; Comment Request; Proposed Projects

Title: Interstate Subpoena.

OMB No.: 0970-0152.

Description: PRWORA '96 (Pub. L. 104-193), section 324, requires the Secretary of DHHS to promulgate an interstate administrative subpoena form to be used by the State CSE programs to collect wage and income information for use in the establishment, modification and enforcement of child support orders.

Respondents: State, Local or Tribal Govt.

Annual Burden Estimates
Instrument | Number of respondents | Number of responses per respondent | Average burden hours per response | Total burden hours
Subpoena | 15,391 | 1 | 0.5 | 7,696
Estimated Total Annual Burden Hours |  |  |  | 7,696

In compliance with the requirements of Section 3506(c)(2)(A) of the Paperwork Reduction act of 1995, the Administration for Children and Families is soliciting public comment on the specific aspects of the information collection described above. Copies of the proposed collection of information can be obtained and comments may be forwarded by writing to the Administration for Children and Families, Office of Information Services, 370 L'Enfant Promenade, SW., Washington, DC 20447, Attn: ACF Reports Clearance Officer. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Any additional substantive comments on the form will also receive consideration. Consideration will be given to comments and suggestions submitted within 60 days of this publication.

Dated: August 30, 2000.
Bob Sargis,
Reports Clearance Officer.

[FR Doc. 00-22768 Filed 9-5-00; 8:45 am]

BILLING CODE 4184-01-M